DEPARTMENT OF TRANSPORTATION

Federal Aviation Administration

14 CFR Part 39

[Docket No. 2000-NM-31-AD]

RIN 2120-AA64

Airworthiness Directives; McDonnell Douglas Model MD-11 Series Airplanes

AGENCY: Federal Aviation Administration, DOT.

ACTION: Notice of proposed rulemaking (NPRM).

SUMMARY: This document proposes the supersedure of an existing airworthiness directive (AD), applicable to certain McDonnell Douglas Model MD-11 series airplanes, that currently requires a one-time inspection to detect discrepancies at certain areas around the entry light connector of the sliding ceiling panel above the forward passenger doors, and repair, if necessary. For certain airplanes, that AD also requires installation or modification of a flapper door ramp deflector on the forward entry drop ceiling structure. For certain other airplanes, that AD requires inspection of the wire assembly support installation for evidence of chafing, and corrective actions, if necessary. For certain airplanes subject to the existing AD, as well as additional airplanes being added to the applicability of this proposed AD, this action would add a requirement for modification of a support bracket for the ramp deflector assembly. This action is necessary to prevent chafing of electrical wire assemblies above the forward passenger doors, which could result in an electrical fire in the passenger compartment. This action is intended to address the identified unsafe condition.

DATES: Comments must be received by September 11, 2000.

ADDRESSES: Submit comments in triplicate to the Federal Aviation Administration (FAA), Transport Airplane Directorate, ANM-114, Attention: Rules Docket No. 2000-NM-31-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2000-NM-31-AD” in the subject line and need not be submitted in triplicate. Comments sent via the Internet as attached electronic files must be formatted in Microsoft Word 97 for Windows or ASCII text.

The service information referenced in the proposed rule may be obtained from Boeing Commercial Aircraft Group, Long Beach Division, 3855 Lakewood Boulevard, Long Beach, California 90846, Attention: Technical Publications Business Administration, Dept. C1-L51 (2-60). This information may be examined at the FAA, Transport Airplane Directorate, 1601 Lind Avenue, SW., Renton, Washington.

FOR FURTHER INFORMATION CONTACT: Brett Portwood, Aerospace Engineer, Systems and Equipment Branch, ANM-130L, FAA, Transport Airplane Directorate, Los Angeles Aircraft Certification Office, 3960 Paramount Boulevard, Lakewood, California 90712-4137; telephone (562) 627-5350; fax (562) 627-5210.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this notice may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this notice must submit a self-addressed, stamped postcard on which the following statement is made: “Comments to Docket Number 2000-NM-31-AD.” The postcard will be date stamped and returned to the commenter.

Availability of NPRMs

Any person may obtain a copy of this NPRM by submitting a request to the FAA, Transport Airplane Directorate, ANM-114, Attention: Rules Docket No. 2000-NM-31-AD, 1601 Lind Avenue, SW., Renton, Washington 98055-4056.

Discussion

On February 10, 2000, the FAA issued AD 2000-03-10, amendment 39-11569 (65 FR 8034, February 17, 2000), applicable to certain McDonnell Douglas MD-11 series airplanes, to require a one-time inspection to detect discrepancies at certain areas around the entry light connector of the sliding ceiling panel above the forward passenger doors, and repair, if necessary. For certain airplanes, that AD also requires installation or modification of a flapper door ramp deflector on the forward entry drop ceiling structure. For certain other airplanes, that AD requires inspection of the wire assembly support installation for evidence of chafing, and corrective actions, if necessary. That action was prompted by a report indicating that damaged electrical wires were found above the forward passenger doors due to flapper panels moving inboard and chafing the electrical wire assemblies of this area. The requirements of that AD are intended to prevent such chafing, which could result in an electrical fire in the passenger compartment.

The incident that prompted AD 2000-03-10 is not considered to be related to an accident that occurred off the coast of Nova Scotia involving a McDonnell Douglas Model MD-11 series airplane. The cause of that accident is still under investigation.

Other Related Rulemaking

The FAA, in conjunction with Boeing and operators of Model MD-11 series airplanes, is continuing to review all aspects of the service history of those airplanes to identify potential unsafe conditions and to take appropriate corrective actions. This proposed airworthiness directive (AD) is one of a series of actions identified during that process. The process is continuing and the FAA may consider additional rulemaking actions as further results of the review become available.

Actions Since Issuance of Previous Rule

In the preamble to AD 2000-03-10, the FAA indicated that the actions required by that AD were considered “interim action” and that further rulemaking action was being considered. The FAA now has determined that further rulemaking action is indeed necessary, and this proposed AD follows from that determination.

Since the issuance of AD 2000-03-10, the FAA has received a report indicating that, on certain airplanes, a support bracket for the ramp deflector assembly installed in accordance with the existing AD could chafe an electrical wire bundle located above the support bracket. In order to prevent such chafing, the FAA finds that it is necessary to require modification of the subject support bracket. In addition, the FAA has determined that this modification is necessary not only for certain airplanes subject to the existing AD, but also for certain additional airplanes that were delivered without modification of the subject support bracket.

Explanation of Relevant Service Information

The FAA has reviewed and approved McDonnell Douglas Alert Service Bulletin MD11-25A194, Revision 06, dated January 27, 2000. That alert service bulletin describes procedures for installation of a ramp deflector assembly similar to those described in McDonnell Douglas Alert Service Bulletin MD11-25A194, Revision 05, dated June 21, 1999, which was referenced as an appropriate source of service information for certain actions required by the existing AD. However, Revision 06 of the alert service bulletin describes new procedures, applicable to certain airplanes, for modifying a support bracket on the ramp deflector assembly on the right-side forward entry drop ceiling structure. In addition to airplanes listed in Revision 05 of the alert service bulletin, Revision 06 lists several additional airplanes on which this modification of the support bracket is necessary. Accomplishment of the actions specified in Revision 06 of the alert service bulletin is intended to adequately address the identified unsafe condition.

Explanation of Requirements of Proposed Rule

Since an unsafe condition has been identified that is likely to exist or develop on other products of this same type design, the proposed AD would supersede AD 2000-03-10 to continue to require a one-time inspection to detect discrepancies at certain areas around the entry light connector of the sliding ceiling panel above the forward passenger doors, and repair, if necessary. For certain airplanes, the proposed AD would also continue to require installation or modification of a flapper door ramp deflector on the forward entry drop ceiling structure, and, for certain other airplanes, inspection of the wire assembly support installation for evidence of chafing, and corrective actions, if necessary. For certain airplanes subject to the existing AD, as well as additional airplanes being added to the applicability of this proposed AD, this proposed AD would require modification of a support bracket for the ramp deflector assembly. The actions would be required to be accomplished in accordance with the alert service bulletin described previously.

Explanation of Change to “Cost Impact” Section

Since the issuance of AD 2000-03-10, the FAA has determined that fewer airplanes are affected by the requirements of that AD than was stated in the “Cost Impact” section in that AD. Therefore, though this proposed AD would add airplanes to the applicability of the existing AD, the number of affected airplanes stated in the “Cost Impact” section is lower than stated in the existing AD. The cost figures contained in the “Cost Impact” section of this AD have been revised accordingly.

Cost Impact

There are approximately 110 airplanes of the affected design in the worldwide fleet. The FAA estimates that 21 airplanes of U.S. registry would be affected by this proposed AD.

The inspection to detect discrepancies around the entry light connector of the slide ceiling panel above the forward passenger doors that is currently required by AD 2000-03-10 takes approximately 2 work hours per airplane to accomplish, at an average labor rate of $60 per work hour. Based on these figures, the cost impact of this currently required inspection on U.S. operators is estimated to be $2,520, or $120 per airplane.

For Group 1 airplanes as specified in McDonnell Douglas Alert Service Bulletin MD11-25A194, Revision 06 (approximately 16 airplanes of U.S. registry), the installation of the flapper door ramp deflector that is currently required by AD 2000-03-10 takes approximately 8 work hours per airplane to accomplish, at an average labor rate of $60 per work hour. Required parts cost approximately $455 per airplane. Based on these figures, the cost impact of this currently required installation on U.S. operators of Group 1 airplanes is estimated to be $14,960, or $935 per airplane.

For Group 2 airplanes as specified in McDonnell Douglas Alert Service Bulletin MD11-25A194, Revision 06 (approximately 8 airplanes of U.S. registry), the installation of the flapper door ramp deflector that is currently required by AD 2000-03-10 takes approximately 8 work hours per airplane to accomplish, at an average labor rate of $60 per work hour. Required parts cost approximately $890 per airplane. Based on these figures, the cost impact of this currently required installation on U.S. operators of Group 2 airplanes is estimated to be $10,960, or $1,370 per airplane.

For airplanes listed in McDonnell Douglas Alert Service Bulletin MD11-24A068, Revision 01, dated March 8, 1999 (approximately 21 airplanes of U.S. registry), the inspection of the wire assembly support installation that is currently required by AD 2000-03-10 takes approximately 1 work hour per airplane to accomplish, at an average labor rate of $60 per work hour. Based on these figures, the cost impact of this currently required inspection on U.S. operators is estimated to be $1,260, or $60 per airplane.

For airplanes in Groups 1 and 3 as specified in McDonnell Douglas Alert Service Bulletin MD11-25A194, Revision 06 (approximately 18 airplanes of U.S. registry), the new modification that is proposed in this AD action would take approximately 2 work hours per airplane to accomplish, at an average labor rate of $60 per work hour. Based on these figures, the cost impact of this proposed modification on U.S. operators is estimated to be $2,160, or $120 per airplane.

The cost impact figures discussed above are based on assumptions that no operator has yet accomplished any of the current or proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-11569 (65 FR 8034, February 17, 2000), and by adding a new airworthiness directive (AD), to read as follows:

McDonnell Douglas: Docket 2000-NM-31-AD. Supersedes AD 2000-03-10, Amendment 39-11569.

Applicability: Model MD-11 series airplanes; as listed in McDonnell Douglas Alert Service Bulletin MD11-25A194, Revision 06, dated January 27, 2000; and MD11-24A068, Revision 01, dated March 8, 1999; certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (f) of this AD. The request should include an assessment of the effect of the modification, alteration, or repair on the unsafe condition addressed by this AD; and, if the unsafe condition has not been eliminated, the request should include specific proposed actions to address it.

Compliance: Required as indicated, unless accomplished previously.

Restatement of the Requirements of AD 2000-03-10: Detailed Visual Inspection

(a) For airplanes listed in McDonnell Douglas Alert Service Bulletins MD11-25A194, Revision 05, dated June 21, 1999, and MD11-24A068, Revision 01, dated March 8, 1999: Within 10 days after December 28, 1998 (the effective date of AD 98-25-11 R1, amendment 39-10988), perform a detailed visual inspection of the aircraft wiring to detect discrepancies that include but are not limited to frayed, chafed, or nicked wires and wire insulation in the areas specified in paragraphs (a)(1) and (a)(2) of this AD.

Note 2: For the purposes of this AD, a detailed visual inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

(1) At the area of the forward drop ceiling just outboard of mod block S3-735, and forward and inboard of the light ballast for the entry light on the sliding ceiling panel above the forward left passenger door (1L) at station location x = 24.75, y = 435, and z = 64.5.

(2) At the area above the forward right passenger door (1R) at station location x = −30, y = 430, and z = 70 in the ramp deflector assembly part number 4223570-501.

Corrective Action

(b) If any discrepancy is detected during the visual inspection required by paragraph (a) of this AD, prior to further flight, repair in accordance with Chapter 20, Standard Wiring Practices of the MD-11 Wiring Diagram Manual, dated January 1, 1998, or April 1, 1998.

Inspection, Installation, and Modification

(c) For airplanes listed in McDonnell Douglas Alert Service Bulletin

MD11-25A194, Revision 05, dated June 21, 1999; or MD11-24A068, Revision 01, dated March 8, 1999: Within 6 months after March 23, 2000 (the effective date of AD 2000-03-10, amendment 39-11569), accomplish the actions specified in paragraphs (c)(1), (c)(2), (c)(3), and (c)(4) of this AD, as applicable.

(1) For Group 1 airplanes listed in McDonnell Douglas Alert Service Bulletin MD11-25A194, Revision 05, dated June 21, 1999: Install a ramp deflector assembly on the right side forward entry drop ceiling structure in accordance with McDonnell Douglas Alert Service Bulletin MD11-25A194, Revision 05, dated June 21, 1999; or McDonnell Douglas Alert Service Bulletin MD11-25A194, Revision 06, dated January 27, 2000. After the effective date of this AD, only Revision 06 of the alert service bulletin shall be used.

(2) For Group 2 airplanes listed in McDonnell Douglas Alert Service Bulletin MD11-25A194, Revision 05, dated June 21, 1999: Install a ramp deflector assembly on the right side forward entry drop ceiling structure in accordance with McDonnell Douglas Alert Service Bulletin MD11-25A194, Revision 05, dated June 21, 1999; or McDonnell Douglas Alert Service Bulletin MD11-25A194, Revision 06, dated January 27, 2000. After the effective date of this AD, only Revision 06 of the alert service bulletin shall be used.

Note 3: Installation of a ramp deflector assembly in accordance with McDonnell Douglas Service Bulletin MD11-25-194, dated March 15, 1996; Revision 01, dated May 1, 1996; Revision 02, dated July 12, 1996; Revision 03, dated December 12, 1996; or Revision 04, dated March 8, 1999, is acceptable for compliance with the requirements of paragraph (c)(2) of this AD.

(3) For Group 3 airplanes listed in McDonnell Douglas Alert Service Bulletin MD11-25A194, Revision 05, dated June 21, 1999: Modify the previously installed ramp deflector assembly bracket in accordance with McDonnell Douglas Alert Service Bulletin MD11-25A194, Revision 05, dated June 21, 1999; or McDonnell Douglas Alert Service Bulletin MD11-25A194, Revision 06, dated January 27, 2000. After the effective date of this AD, only Revision 06 of the alert service bulletin shall be used.

(4) For airplanes listed in McDonnell Douglas Alert Service Bulletin MD11-24A068, Revision 01, dated March 8, 1999: Perform a general visual inspection of the wire assembly support installation for evidence of chafing, in accordance with the service bulletin. If any chafing is detected, prior to further flight, repair or replace any discrepant part with a new part in accordance with the service bulletin.

Note 4: For the purposes of this AD, a general visual inspection is defined as “A visual examination of an interior or exterior area, installation, or assembly to detect obvious damage, failure, or irregularity. This level of inspection is made under normally available lighting conditions such as daylight, hangar lighting, flashlight, or drop-light, and may require removal or opening of access panels or doors. Stands, ladders, or platforms may be required to gain proximity to the area being check.”

New Requirements of This AD

One-Time Inspection

(d) For airplanes other than those identified in paragraph (a) of this AD: Within 10 days after the effective date of this AD, perform a detailed visual inspection of the aircraft wiring to detect discrepancies that include but are not limited to frayed, chafed, or nicked wires and wire insulation in the areas specified in paragraphs (a)(1) and (a)(2) of this AD. If any discrepancy is found, prior to further flight, repair in accordance with the requirements of paragraph (b) of this AD.

Note 5: Accomplishment of the inspection required by paragraph (a) of AD 98-25-11 R1, amendment 39-10988, prior to the effective date of this AD is acceptable for compliance with paragraph (d) of this AD.

Modification

(e) For airplanes listed in Group 3 of McDonnell Douglas Alert Service

Bulletin MD11-25A194, Revision 06, dated January 27, 2000: Within 6 months after the effective date of this AD, modify the ramp deflector assembly support bracket on the right side forward entry door drop ceiling structure, in accordance with McDonnell Douglas Alert Service Bulletin MD11-25A194, Revision 06, dated January 27, 2000.

Alternative Methods of Compliance

(f) An alternative method of compliance or adjustment of the compliance time that provides an acceptable level of safety may be used if approved by the Manager, Los Angeles Aircraft Certification Office (ACO), FAA, Transport Airplane Directorate. Operators shall submit their requests through an appropriate FAA Principal Maintenance Inspector, who may add comments and then send it to the Manager, Los Angeles ACO.

Note 6: Information concerning the existence of approved alternative methods of compliance with this AD, if any, may be obtained from the Los Angeles ACO.

Special Flight Permits

(g) Special flight permits may be issued in accordance with sections 21.197 and 21.199 of the Federal Aviation Regulations (14 CFR 21.197 and 21.199) to operate the airplane to a location where the requirements of this AD can be accomplished.

Issued in Renton, Washington, on July 14, 2000.
John J. Hickey,
Manager, Transport Airplane Directorate, Aircraft Certification Service.

[FR Doc. 00-18395 Filed 7-26-00; 8:45 am]

BILLING CODE 4910-13-U